ENVIRONMENTAL PROTECTION AGENCY

40 CFR Part 180

[EPA-HQ-OPP-2023-0079; FRL-11964-01-OCSPP]

Indoxacarb; Pesticide Tolerances

AGENCY: Environmental Protection Agency (EPA).

ACTION: Final rule.

SUMMARY: This regulation establishes tolerances for residues of indoxacarb in or on multiple crops listed later in this document. Interregional Research Project Number 4 (IR-4) requested these tolerances under the Federal Food, Drug, and Cosmetic Act (FFDCA).

DATES: This regulation is effective August 8, 2024. Objections and requests for hearings must be received on or before October 7, 2024, and must be filed in accordance with the instructions provided in 40 CFR part 178 (see also Unit I.C. of the SUPPLEMENTARY INFORMATION).

ADDRESSES: The docket for this action, identified by docket identification (ID) number EPA-HQ-OPP-2023-0079, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. For the latest status information on EPA/DC services, docket access, visit https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at: https://www.ecfr.gov/current/title-40.

C. How can I file an objection or hearing request?

Under FFDCA section 408(g), 21 U.S.C. 346a(g), any person may file an objection to any aspect of this regulation and may also request a hearing on those objections. You must file your objection or request a hearing on this regulation in accordance with the instructions provided in 40 CFR part 178. To ensure proper receipt by EPA, you must identify docket ID number EPA-HQ-OPP-2023-0079 in the subject line on the first page of your submission. All objections and requests for a hearing must be in writing and must be received by the Hearing Clerk on or before October 7, 2024. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2023-0079, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, are available at https://www.epa.gov/dockets.

II. Summary of Petitioned-For Tolerance

In the Federal Register of February 29, 2024 (89 FR 14795) (FRL-11682-01-OCSPP), EPA issued a document pursuant to FFDCA section 408(d)(3), 21 U.S.C. 346a(d)(3), announcing the filing of a pesticide petition (PP 2E9044) by IR-4, North Carolina State University, 1730 Varsity Drive, Venture IV, Suite 210, Raleigh, NC 27606. The petition requested to amend 40 CFR part 180 by establishing tolerances for residues of indoxacarb in or on the raw agricultural commodities Brassica, leafy greens, subgroup 4-16B at 12 parts per million (ppm); Celtuce at 14 ppm; Chickpea, dry seed at 0.2 ppm; Coffee, green bean at 0.03 ppm; Cottonseed subgroup 20C at 2 ppm; Fennel, florence, fresh leaves and stalk at 14 ppm; Field corn subgroup 15-22C at 0.02 ppm; Fruit, pome, group 11-10, except pear at 1 ppm; Fruit, stone, group 12-12 at 1 ppm; Kohlrabi at 12 ppm; Leaf petiole vegetable subgroup 22B at 14 ppm; Leafy greens subgroup 4-16A at 14 ppm; Pear, asian at 0.2 ppm; Strawberry at 4 ppm; Sunflower subgroup 20B at 1.5 ppm; Sweet corn subgroup 15-22D at 0.02 ppm; Vegetable, brassica, head and stem, group 5-16 at 12 ppm; Vegetable, legume, bean, edible podded, subgroup 6-22A at 0.9 ppm; Vegetable, legume, bean, succulent shelled, subgroup 6-22C at 0.9 ppm; Vegetable, legume, pulse, bean, dried shelled, except soybean, subgroup 6-22E at 0.2 ppm; and Vegetable, fruiting, group 8-10 at 0.5 ppm.

The petition also proposed to remove established tolerances for residues of indoxacarb in or on the following: Bean, dry seed; Bean, succulent; Corn, field, grain; Corn, pop, grain; Corn, sweet, kernel plus cob with husk removed; Cotton, undelinted seed; Fruit, pome, except pear, group 11; Fruit, stone, group 12; Okra; Pea, southern, seed; Pear, oriental; Turnip, greens; Vegetable, Brassica, leafy, group 5; Vegetable, fruiting, group 8; and Vegetable, leafy, except Brassica, group 4.

That document referenced a summary of the petition, which is available in the docket, https://www.regulations.gov. There were no comments received in response to the notice.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue . . . .”

Consistent with FFDCA section 408(b)(2)(D), and the factors specified therein, EPA has reviewed the available scientific data and other relevant information in support of this action. EPA has sufficient data to assess the hazards of and to make a determination on aggregate exposure for indoxacarb including exposure resulting from the tolerances established by this action. EPA's assessment of exposures and risks associated with indoxacarb follows.

In an effort to streamline its publications in the Federal Register, EPA is not reprinting sections that repeat what has been previously published for tolerance rulemaking of the same pesticide chemical. Where scientific information concerning a particular chemical remains unchanged, the content of those sections would not vary between tolerance rulemaking, and EPA considers referral back to those sections as sufficient to provide an explanation of the information EPA considered in making its safety determination for the new rulemaking.

EPA has previously published several tolerance rulemakings for indoxacarb, in which EPA concluded, based on the available information, that there is a reasonable certainty that no harm would result from aggregate exposure to indoxacarb and established tolerances for residues of that chemical. EPA is incorporating previously published sections of those rulemakings that remain unchanged, as described further in this rulemaking. Specific information on the risk assessment conducted in support of this action, including on the studies received and the nature of the adverse effects caused by indoxacarb, can be found in the document titled “Indoxacarb. Human Health Risk Assessment for Section 3 Registration in/on Coffee, Strawberry, and Sunflower Crop Subgroup 20B; and Crop Group Conversions and Expansions” which is available in the docket for this action at https://www.regulations.gov.

Toxicological profile. For a discussion of the Toxicological Profile of indoxacarb, see Unit III.A. of the rulemaking published in the Federal Register of December 8, 2017 (82 FR 57860) (FRL-9970-39).

Toxicological points of departure/Levels of concern. For a summary of the Toxicological Points of Departure/Levels of Concern used for the safety assessment of indoxacarb, see Unit III.B. of the December 8, 2017, rulemaking.

Exposure assessment. Much of the exposure assessment remains unchanged from the rulemaking published on December 8, 2017, although the new exposure assessment incorporates the additional dietary exposure from the petitioned-for tolerances. Other changes are described below.

Acute and chronic dietary exposure assessments were conducted using the Dietary Exposure Evaluation Model-Food Commodity Intake Database (DEEM-FCID) Version 4.02. This software uses 2005-2010 food consumption data from the U.S. Department of Agriculture's (USDA's) National Health and Nutrition Examination Survey, What We Eat in America, (NHANES/WWEIA). Partially refined acute probabilistic and chronic dietary analyses were conducted using percent crop treated data. For food commodities, residue distribution files were constructed from field trial residues for the probabilistic acute dietary assessment as appropriate, and average residues were computed for blended commodities and for the chronic dietary assessment.

Anticipated residue and percent crop treated information. Section 408(b)(2)(E) of FFDCA authorizes EPA to use available data and information on the anticipated residue levels of pesticide residues in food and the actual levels of pesticide residues that have been measured in food. If EPA relies on such information, EPA must require pursuant to FFDCA section 408(f)(1) that data be provided 5 years after the tolerance is established, modified, or left in effect, demonstrating that the levels in food are not above the levels anticipated. For the present action, EPA will issue such data call-ins as are required by FFDCA section 408(b)(2)(E) and authorized under FFDCA section 408(f)(1). Data will be required to be submitted no later than 5 years from the date of issuance of these tolerances.

Section 408(b)(2)(F) of FFDCA states that the Agency may use data on the actual percent of food treated for assessing chronic dietary risk only if:

• Condition a: The data used are reliable and provide a valid basis to show what percentage of the food derived from such crop is likely to contain the pesticide residue.

• Condition b: The exposure estimate does not underestimate exposure for any significant subpopulation group.

• Condition c: Data are available on pesticide use and food consumption in a particular area, and the exposure estimate does not understate exposure for the population in such area.

In addition, the Agency must provide for periodic evaluation of any estimates used. To provide for the periodic evaluation of the estimate of PCT as required by FFDCA section 408(b)(2)(F), EPA may require registrants to submit data on PCT.

For the acute dietary risk assessment, the following maximum PCT estimates were used: apples (15%); apricots (15%); broccoli (40%), cabbage (35%); cauliflower (50%); celery (10%); cherries (2.5%); corn (2.5%); cotton (2.5%); cucumbers (10%); lettuce (15%); nectarines (40%); peaches (15%); peanuts (5%); peppers (20%); plums/prunes (15%); potatoes (2.5%); pumpkins (2.5%); soybeans (2.5%); spinach (2.5%); squash (10%); sweet corn (5%); tomatoes (15%); and watermelons (2.5%).

For the chronic dietary assessment, the following average PCT estimates were used: apples (10%); apricots (2.5%); broccoli (30%), cabbage (20%); cauliflower (25%); celery (5%); cherries (1%); corn (1%); cotton (1%); cucumbers (2.5%); lettuce (5%); nectarines (30%); peaches (10%); peanuts (1%); peppers (10%); plums (5%); potatoes (1%); prunes (1%); pumpkins (1%); soybeans (1%); spinach (1%); squash (2.5%); sweet corn (1%); tomatoes (10%); and watermelons (1%).

For all other crop commodities with indoxacarb uses and for the proposed new uses of indoxacarb, the assessment assumed that 100% of the crop was treated.

In most cases, EPA uses available data from United States Department of Agriculture/National Agricultural Statistics Service (USDA/NASS), proprietary market surveys, and California Department of Pesticide Regulation (CalDPR) Pesticide Use Reporting (PUR) for the chemical/crop combination for the most recent 10 years. EPA uses an average PCT for chronic dietary risk analysis and a maximum PCT for acute dietary risk analysis. The average PCT figure for each existing use is derived by combining available public and private market survey data for that use, averaging across all observations, and rounding to the nearest 5%, except for those situations in which the average PCT is less than 1% or less than 2.5% as the average PCT value, respectively. In those cases, the Agency would use 1% or 2.5% as the average PCT value, respectively. The maximum PCT figure is the highest observed maximum value reported within the most recent 10 years of available public and private market survey data for the existing use and rounded up to the nearest multiple of 5%, except where the maximum PCT is less than 2.5%, in which case, the Agency uses 2.5% as the maximum PCT.

The Agency believes that Conditions a, b, and c discussed above have been met. With respect to Condition a, PCT estimates are derived from Federal and private market survey data, which are reliable and have a valid basis. The Agency is reasonably certain that the percentage of the food treated is not likely to be an underestimation. As to Conditions b and c, regional consumption information and consumption information for significant subpopulations is taken into account through EPA's computer-based model for evaluating the exposure of significant subpopulations including several regional groups. Use of this consumption information in EPA's risk assessment process ensures that EPA's exposure estimate does not understate exposure for any significant subpopulation group and allows the Agency to be reasonably certain that no regional population is exposed to residue levels higher than those estimated by the Agency. Other than the data available through national food consumption surveys, EPA does not have available reliable information on the regional consumption of food to which indoxacarb may be applied in a particular area.

Drinking water and non-occupational exposures. For a summary of the drinking water numbers used, see Unit III.A. of the November 16, 2020, rulemaking (85 FR 72968) (FRL-10012-78). An acute estimated drinking water concentration (EDWC) of 131 parts per billion (ppb) and a chronic EDWC of 123 ppb were used in the acute and chronic dietary exposure assessments, respectively.

There are no residential/non-occupational uses of indoxacarb proposed for the current action, however, there are currently registered uses of indoxacarb that may result in residential handler and post-application exposures. The residential exposure scenarios used in the aggregate exposure assessment are as follows: the short-term residential exposure for use in the child (1 to less than 2 years old) aggregate assessment is incidental oral (hand to mouth) exposures from post-application exposure resulting from spot (course/pin stream) applications to hard/carpeted surfaces and the intermediate-/long-term residential exposure for use in the child (1 to less than 2 years old) aggregate assessment is incidental oral (hand to mouth) exposures from post-application exposure to treated pets (dogs).

Cumulative exposure. Section 408(b)(2)(D)(v) of FFDCA requires that, when considering whether to establish, modify, or revoke a tolerance, the Agency consider “available information” concerning the cumulative effects of a particular pesticide's residues and “other substances that have a common mechanism of toxicity.” Unlike other pesticides for which EPA has followed a cumulative risk approach based on a common mechanism of toxicity, EPA has not made a common mechanism of toxicity finding as to indoxacarb and any other substances and indoxacarb does not appear to produce a toxic metabolite produced by other substances. For the purposes of this action, therefore, EPA has not assumed that indoxacarb has a common mechanism of toxicity with other substances.

Safety factor for infants and children. EPA continues to conclude that there are reliable data showing that the safety of infants and children would be adequately protected if the Food Quality Protection Act (FQPA) safety factor were reduced from 10X to 1X. The reasons for that decision are articulated in Unit III.D. of the December 8, 2017, rulemaking.

Aggregate risks and determination of safety. EPA determines whether acute and chronic dietary pesticide exposures are safe by comparing dietary exposure estimates to the acute population-adjusted dose (aPAD) and chronic population-adjusted dose (cPAD). Short-, intermediate-, and chronic-term aggregate risks are evaluated by comparing the estimated total food, water, and residential exposure to the appropriate points of departure to ensure that an adequate margin of exposure (MOE) exists.

Acute dietary (food and drinking water) risks are below the Agency's level of concern of 100% of the aPAD; they are 57% of the aPAD for children 1 to 2 years old, which is the population subgroup with the highest exposure estimate. Chronic dietary (food and drinking water) risks are below the Agency's level of concern of 100% of the cPAD; they are 50% of the cPAD for all infants less than one year old, which is the population subgroup with the highest exposure estimate.

The short- and intermediate-term aggregate risks combine chronic dietary (food and drinking water) and short- and intermediate-term residential exposures. For the short-term aggregate risk for children 1 to less than 2 years old, the aggregate MOE is 120. For the intermediate/long-term aggregate risk for children 1 to less than 2 years old, the aggregate MOE is 250. MOEs below 100 are of concern; these MOEs are above 100 and therefore are not of concern.

Because indoxacarb is classified as “not likely to be carcinogenic to humans”, EPA has concluded that aggregate exposure to indoxacarb is not likely to pose a cancer risk.

Therefore, based on the risk assessments and information described above, EPA concludes there is a reasonable certainty that no harm will result to the general population, or to infants and children, from aggregate exposure to indoxacarb residues.

IV. Other Considerations

A. Analytical Enforcement Methodology

For a discussion of the available analytical enforcement method, see Unit IV.A. of the November 16, 2020, rulemaking.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4).

The U.S. and Codex are harmonized with respect to the residue definition for the commodities included in this petition. There are no Codex MRLs for sunflower, coffee, and strawberry. The U.S. tolerance for residues of indoxacarb in or on stone fruit group 12-12 is harmonized with the Codex MRL for stone fruits at 1 ppm, and the U.S. tolerance for residues of indoxacarb in or on Vegetable, legume, pulse, bean, dried shelled, except soybean, subgroup 6-22E is harmonized with the Codex MRL for mung bean (dry) at 0.2 ppm. The U.S. tolerance levels are not harmonized with Codex commodity MRLs for the following groups/subgroups: Cottonseed subgroup 20C; Fruit, pome, group 11-10, except pear; Leafy greens subgroup 4-16A; Vegetable, brassica, head and stem, group 5-16; dry cowpea (part of Vegetable, legume, pulse, bean, dried shelled, except soybean, subgroup 6-22E); and Vegetable, fruiting, group 8-10. Based on available residue data, use by U.S. growers consistent with approved label instructions would result in residues that exceed the Codex MRL. Harmonizing with these Codex MRLs could put U.S. growers at risk of violative residues despite legal use of indoxacarb. Moreover, EPA's regulations (40 CFR 152.112(g)) require adequate tolerances to be in place in order to register a pesticide for use on food. Tolerances harmonized with the Codex MRL would not be adequate to cover residues associated with the labeled use of the pending pesticide application with which these tolerances are associated. Since EPA has determined these tolerances are safe, EPA is establishing these tolerances despite the lack of harmonization with the related Codex MRLs.

V. Conclusion

Therefore, tolerances are established for residues of indoxacarb in or on Brassica, leafy greens, subgroup 4-16B at 12 ppm; Celtuce at 14 ppm; Chickpea, dry seed at 0.2 ppm; Coffee, green bean at 0.03 ppm; Cottonseed subgroup 20C at 2 ppm; Fennel, florence, fresh leaves and stalk at 14 ppm; Field corn subgroup 15-22C at 0.02 ppm; Fruit, pome, group 11-10, except pear at 1 ppm; Fruit, stone, group 12-12 at 1 ppm; Kohlrabi at 12 ppm; Leaf petiole vegetable subgroup 22B at 14 ppm; Leafy greens subgroup 4-16A at 14 ppm; Pear, asian at 0.2 ppm; Strawberry at 4 ppm; Sunflower subgroup 20B at 1.5 ppm; Sweet corn subgroup 15-22D at 0.02 ppm; Vegetable, brassica, head and stem, group 5-16 at 12 ppm; Vegetable, fruiting, group 8-10 at 0.5 ppm; Vegetable, legume, bean, edible podded, subgroup 6-22A at 0.9 ppm; Vegetable, legume, bean, succulent shelled, subgroup 6-22C at 0.9 ppm; and Vegetable, legume, pulse, bean, dried shelled, except soybean, subgroup 6-22E at 0.2 ppm.

Additionally, the established tolerances on Bean, dry seed; Bean, succulent; Corn, field, grain; Corn, pop, grain; Corn, sweet, kernel plus cob with husk removed; Cotton, undelinted seed; Fruit, pome, except pear, group 11; Fruit, stone, group 12; Okra; Pea, southern, seed; Pear, oriental; Turnip, greens; Vegetable, Brassica, leafy, group 5; Vegetable, fruiting, group 8; and Vegetable, leafy, except Brassica, group 4, are removed as unnecessary.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001), or to Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal Governments, on the relationship between the National Government and the States or Tribal Governments, or on the distribution of power and responsibilities among the various levels of government or between the Federal Government and Indian Tribes. Thus, the Agency has determined that Executive Order 13132, entitled “Federalism” (64 FR 43255, August 10, 1999), and Executive Order 13175, entitled “Consultation and Coordination with Indian Tribal Governments” (65 FR 67249, November 9, 2000), do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: July 31, 2024.
Charles Smith,
Director, Registration Division, Office of Pesticide Programs.

Therefore, for the reasons stated in the preamble, EPA is amending 40 CFR chapter 1 as follows:

PART 180—TOLERANCES AND EXEMPTIONS FOR PESTICIDE CHEMICAL RESIDUES IN FOOD

1. The authority citation for part 180 continues to read as follows:

Authority: 21 U.S.C. 321(q), 346a and 371.

2. Section 180.564, is amended by revising and republishing table 1 to paragraph (a)(1) to read as follows:

§ 180.564 Indoxacarb; tolerances for residues.

(a) * * *

(1) * * *

Table 1 to Paragraph (a)(1)
Commodity | Parts per million
Alfalfa, forage | 10
Alfalfa, hay | 50
Almond, hulls | 8
Apple, wet pomace | 3.0
Beet, garden, roots | 0.30
Beet, garden, tops | 6.0
Berry, low growing, except strawberry, subgroup 13-07H | 1
Brassica, leafy greens, subgroup 4-16B | 12
Bushberry subgroup 13-07B | 1.5
Cattle, fat | 1.5
Cattle, meat | 0.05
Cattle, meat byproducts | 0.03
Celtuce | 14
Chickpea, dry seed | 0.2
Coffee, green bean | 0.03
Corn, field, forage | 6.0
Corn, field, stover | 15
Corn, pop, stover | 15
Corn, sweet, forage | 10
Corn, sweet, stover | 15
Cotton, gin byproducts | 15
Cottonseed subgroup 20C | 2
Cowpea, forage | 50
Cowpea, hay | 100
Fennel, florence, fresh leaves and stalk | 14
Field corn subgroup 15-22C | 0.02
Fruit, pome, group 11-10, except pear | 1
Fruit, small vine climbing, except fuzzy kiwifruit, subgroup 13-07F | 2
Fruit, stone, group 12-12 | 1
Goat, fat | 1.5
Goat, meat | 0.05
Goat, meat byproducts | 0.03
Grain, aspirated fractions | 45
Grape, raisin | 5.0
Hog, fat | 1.5
Hog, meat | 0.05
Hog, meat byproducts | 0.03
Horse, fat | 1.5
Horse, meat | 0.05
Horse, meat byproducts | 0.03
Kohlrabi | 12
Leaf petiole vegetable subgroup 22B | 14
Leafy greens subgroup 4-16A | 14
Milk | 0.15
Milk, fat | 4.0
Nut, tree, group 14-12 | 0.08
Peanut | 0.01
Peanut, hay | 40
Pear | 0.20
Pear, asian | 0.2
Peppermint, tops | 11
Sheep, fat | 1.5
Sheep, meat | 0.05
Sheep, meat byproducts | 0.03
Soybean, hulls | 4.0
Soybean, seed | 0.80
Spearmint, tops | 11
Strawberry | 4
Sunflower subgroup 20B | 1.5
Sweet corn subgroup 15-22D | 0.02
Vegetable, brassica, head and stem, group 5-16 | 12
Vegetable, cucurbit, group 9 | 0.60
Vegetable, fruiting, group 8-10 | 0.5
Vegetable, legume, bean, edible podded, subgroup 6-22A | 0.9
Vegetable, legume, bean, succulent shelled, subgroup 6-22C | 0.9
Vegetable, legume, pulse, bean, dried shelled, except soybean, subgroup 6-22E | 0.2
Vegetable, tuberous and corm, subgroup 1-C | 0.01

* * * * *

[FR Doc. 2024-17371 Filed 8-7-24; 8:45 am]

BILLING CODE 6560-50-P